FEDERAL COMMUNICATIONS COMMISSION

[CC Docket No. 98-171, DA 00-214]

Streamlined Contributor Reporting Requirements Associated with Administration of Telecommunications Relay Services, North American Numbering Plan, Local Number Portability, and Universal Service Support Mechanisms

AGENCY: Federal Communications Commission.

ACTION: Notice.

SUMMARY: In this document, the Federal Communications Commission designates the National Exchange Carriers Association (NECA) as the data collection for purposes of the April 2000 Telecommunications Reporting Worksheet filing. Also, the Federal Communications Commission approves a method for allocating costs associated with this filing.

FOR FURTHER INFORMATION CONTACT: Legal Information: Scott Bergmann, Industry Analysis Division, Common Carrier Bureau, at (202) 418-7102. Technical Information: Jim Lande, Industry Analysis Division, Common Carrier Bureau, at (202) 418-0948.

SUPPLEMENTARY INFORMATION: This is a summary of the Commission's Order released February 4, 2000 (DA 00-214). The full text of the Order is available for inspection and copying during normal business hours in the FCC Reference Center, Room CY-A257, 445 12th Street, SW, Washington, D.C. 20554. The complete text also may be purchased from the Commission's copy contractor, International Transcription Service, Inc. (202) 857-3800, 1231 20th Street, N.W., Washington, D.C. 20037. Additionally, the complete item is available on the Commission's website at <http://www.fcc.gov/Bureaus/Common_Carrier/Orders/2000.>

Synopsis of the Order

1. In the document summarized here, the Common Carrier Bureau, acting on delegated authority, takes action to provide for the filing of the April 2000 Telecommunications Reporting Worksheet and for the distribution of essential contributor revenue data to the administrators of the: (1) Telecommunications Relay Services Fund; (2) the cost recovery mechanism for numbering administration; (3) the cost recovery mechanism for long-term local number portability; and (4) the universal service support mechanism. These actions are necessary to ensure that the administrators of these support and cost recovery mechanisms will each have access to reliable and timely data on which to base contributions to these mechanisms.

2. Specifically, as set out below, we direct the National Exchange Carriers Association (NECA) to perform the data collection functions for the April 2000 filing, in accordance with the joint proposal submitted by the administrators of the four support and cost recovery mechanisms. We also set out procedures for the administrators to submit proposed arrangements for future filings. The Order directs that the administrators file by May 15, 2000 any proposals for handling the September 2000 and both the April and September 2001 filings. We expect that the procedures approved in the Order will result in lower administrative costs overall and will ensure the lowest possible regulatory burden on the telecommunications service providers that contribute to these support and cost recovery mechanisms.

Ordering Clauses

Accordingly pursuant to sections 1, 4(i), 4(j), 11, 201-205, 210, 214, 218, 225, 251, 254, 303(r), 332, and 403 of the Communications Act of 1934, as amended, 47 U.S.C. 1, 4(i), 4(j), 11, 201-205, 210, 214, 218, 225, 251, 254, 303(r), 332, and 403 that this Order is hereby adopted.

Federal Communications Commission.
Peyton L. Wynns,
Chief, Industry Analysis Division, Common Carrier Bureau.

[FR Doc. 00-4442 Filed 2-24-00; 8:45 am]

BILLING CODE 6712-01-P